DEPARTMENT OF ENERGY

Western Area Power Administration

2025 Resource Pool—Provo River Project, Proposed Power Allocation

AGENCY: Western Area Power Administration, DOE.

ACTION: Notice of Provo River Project 2025 Resource Pool proposed power allocation and request for comment.

SUMMARY: Western Area Power Administration (WAPA), a Federal Power Marketing Administration of the Department of Energy (DOE), announces its Provo River Project (PRP) 2025 Resource Pool proposed power allocation. WAPA developed the proposed power allocations under its Final 2025 Provo River Project Marketing Plan and Call for 2025 Resource Pool Applications (Marketing Plan), published in the Federal Register March 17, 2023. WAPA proposes not to allocate any power under the 2025 Resource Pool.

DATES: The comment period on this Notice of proposed power allocation begins today and ends at 4 p.m. MST, on January 2, 2024. WAPA will accept comments by email or delivered by common carrier such as U.S. mail. WAPA reserves the right to not consider comments received after the prescribed date and time.

A single public information and comment forum about the proposed 2025 Resource Pool power allocation will be held virtually on Wednesday, December 6, 2023, beginning at 2 p.m. MST and concluding when comments are complete, or no later than 5 p.m. MST. Information on the virtual meeting may be found on the Colorado River Storage Project (CRSP) website at: www.wapa.gov/regions/CRSP/PowerMarketing/Pages/power-marketing.aspx. WAPA will post virtual meeting access and dial in information at this link 14 days before the scheduled meeting. The public information and comment forum can be accessed 15 minutes in advance of the start time.

ADDRESSES: Submit written comments about the 2025 Resource Pool proposed power allocation to: Mr. Rodney Bailey, Senior Vice President and CRSP Manager, CRSP Management Center (MC), Western Area Power Administration, 1800 South Rio Grande Avenue, Montrose, CO 81401. Comments also may be emailed to Provo-Marketing@wapa.gov or faxed to 970-240-6282. All documentation developed or retained by WAPA for the purpose of developing the proposed power allocation is available for inspection and copying at the CRSP MC. Comments must be received by WAPA within the time required in the DATES section. Information about the Marketing Plan, which describes the resource pool allocation procedures, is available on CRSP's website at: www.wapa.gov/regions/CRSP/PowerMarketing/Pages/power-marketing.aspx.

FOR FURTHER INFORMATION CONTACT: Mr. Randolph Manion, CRSP Contracts and Energy Services Manager, Manion@wapa.gov, 720-201-3285, or fax at 970-240-6282.

SUPPLEMENTARY INFORMATION: The Marketing Plan provides the basis for marketing the PRP long-term hydroelectric resource beginning October 1, 2024, through September 30, 2054. The Marketing Plan established the opportunity for one resource pool of up to 3 percent of the net marketable resource under contract at the time of reallocation to be available for eligible new preference entities and existing contractors.

WAPA notified the public of the 2025 Resource Pool allocation procedures, including the Eligibility Criteria, and called for applications in the Federal Register on March 17, 2023 (88 FR 16433). WAPA accepted applications at WAPA's CRSP MC until 4:00 p.m. MDT, June 15, 2023.

WAPA seeks comments on its proposal not to allocate any power under the 2025 Resource Pool. After considering public comments received, WAPA will publish the final decision in the Federal Register.

I. 2025 Pool Resources

To ensure consistency with WAPA's wide-spread use policy when a project is remarketed, it was WAPA's intent to reallocate up to 3 percent of the net marketable PRP energy resource for eligible new preference entities. Furthermore, PRP contractors also were eligible to apply for a portion of the resource pool. Based on the most recent 5-year net marketable power average of 17,243,527 kilowatt-hour (kWh) annually, the estimated amount of PRP energy available for the 2025 Resource Pool as of October 1, 2024, through September 30, 2054, is estimated at 517,306 kWh annually. The 2025 Resource Pool would be created by reducing existing PRP contractors' allocation by up to 3 percent.

II. No Proposed 2025 Resource Pool Power Allocation

WAPA received one application for the 2025 Resource Pool. The single application came- from the Utah Associated Municipal Power Systems (UAMPS), a joint action agency, on behalf of three of its members: Payson, Utah, Springville City, Utah, and South Utah Valley Electric Service District, Utah. All are existing PRP contractors (sub-allottees). WAPA received no other applications, including any applications from eligible new applicants.

As discussed in the Marketing Plan, WAPA would make allocations for the 2025 Resource Pool at WAPA's discretion (88 FR 16438). One of the purposes of the 2025 Resource Pool is “to ensure consistency with the wide-spread use policy to allow new applicants an opportunity to receive an allocation” (88 FR 16435). In allocating the 2025 Resource Pool WAPA would “take into consideration all existing federal hydropower allocations an applicant is currently receiving when determining each new 2025 Resource Pool application” (88 FR 16437). After analyzing the application from UAMPS on behalf of the three sub-allottees and taking into consideration all existing federal hydropower allocations to all PRP contractors, WAPA determined no significant benefit of additional wide-spread use by continuing forward with the 2025 Resource Pool proposed power allocations. Therefore, WAPA proposes not to allocate any power under the 2025 Resource Pool. As part of the proposal, WAPA will not reduce PRP contractor allocations by 3 percent, and all current PRP allocations remaining unchanged from October 1, 2024, through September 30, 2054, as indicated in the table below.

Joint action agency | Eligible entity | Percentage entitlement
| Heber City | 6.0
UAMPS Total |  | 24.0
| Lehi | 2.7
| Springville | 12.9
| Payson | 4.8
| South Utah Valley ESD | 3.6
UMPA Total |  | 70
| Provo | 60.9
| Salem | 1.4
| Spanish Fork | 7.7

III. Regulatory Procedure Requirements

A. Review Under the National Environmental Policy Act (NEPA)

WAPA has determined that this proposed action fits within the categorical exclusion listed in appendix B to subpart D of 10 CFR part 1021 (B4.1 contracts, policies, and marketing and allocation plans for electric power). Categorically excluded projects and activities do not require preparation of either an environmental impact statement or an environmental assessment. A copy of the categorical exclusion determination is available on the CRSP website at: www.wapa.gov/regions/CRSP/environment/Pages/environment.aspx.

B. Determination Under Executive Order 12866

WAPA has an exemption from centralized regulatory review under Executive Order 12866. Accordingly, no clearance of this notice by the Office of Management and Budget is required.

Signing Authority

This document of the Department of Energy was signed on October 13, 2023, by Tracey A. LeBeau, Administrator, Western Area Power Administration, pursuant to delegated authority from the Secretary of Energy. That delegation authority document, with the original signature and date, is maintained by DOE. For administrative purposes only, and in compliance with requirements of the Office of the Federal Register, the undersigned DOE Federal Register Liaison Officer has been authorized to sign and submit this document in electronic format for publication, as an official document of the Department of Energy. This administrative process in no way alters the legal effect of this document upon publication in the Federal Register.

Signed in Washington, DC, on October 26, 2023.
Treena V. Garrett,
Federal Register Liaison Officer, U.S. Department of Energy.

[FR Doc. 2023-24002 Filed 10-30-23; 8:45 am]

BILLING CODE 6450-01-P